DEPARTMENT OF LABOR

Employment and Training Administration

[TA-W-63,154]

Advantage Printing, Inc.; Hickory, NC; Notice of Termination of Investigation

In accordance with Section 221 of the Trade Act of 1974, as amended, an investigation was initiated on April 8, 2008 in response to a petition filed by a company official on behalf of workers of Advantage Printing, Inc., Hickory, North Carolina.

The petitioner has requested that the petition be withdrawn. Consequently, the investigation has been terminated.

Signed in Washington, DC, this 12th day of May 2008.
Richard Church,
Certifying Officer, Division of Trade Adjustment Assistance.

[FR Doc. E8-11376 Filed 5-20-08; 8:45 am]

BILLING CODE 4510-FN-P